FEDERAL COMMUNICATIONS COMMISSION

47 CFR Part 73

[DA No. 00-2058; MM Docket No. 00-27; RM-9820, RM-9875 & RM-9876]

Radio Broadcasting Services; Valley Mills, Gorman, Hico and Walnut Springs, TX

AGENCY: Federal Communications Commission.

ACTION: Proposed rule; dismissal.

SUMMARY: Valley Mills Radio Broadcasting Company proposed the allotment of Channel 237C2 at Valley Mills, Texas. See 65 FR 11537, March 3, 2000. Counterproposals were filed by Valley Mills Radio Broadcasting Company requesting the allotment of Channel 237C2 at Hico, TX and by Gorman Community Broadcasting Company requesting the allotment of Channel 238C3 at Gorman, TX and Channel 237A at Walnut Springs, TX. On June 14, 2000, a Joint Motion to Dismiss was filed by Valley Mills Radio Broadcasting Company and Gorman Community Broadcasting Company. Therefore, the petition and counterproposals have been dismissed, as requested, with no action taken with regard to allotments at Valley Mills, Hico, Gorman and Walnut Springs, TX.

ADDRESSES: Federal Communications Commission, Washington, D.C. 20554.

FOR FURTHER INFORMATION CONTACT: Kathleen Scheuerle, Mass Media Bureau, (202) 418-2180.

SUPPLEMENTARY INFORMATION: This is a summary of the Commission's Report and Order, MM Docket No. 00-27, adopted August 30, 2000, and released September 8, 2000. The full text of this Commission decision is available for inspection and copying during normal business hours in the Commission's Reference Center, 445 12th Street, SW., Washington, DC.

The complete text of this decision may also be purchased from the Commission's copy contractors, International Transcription Services, Inc., 1231 20th Street, NW., Washington, DC. 20036, (202) 857-3800, facsimile (202) 857-3805.

Federal Communications Commission.
John A. Karousos,
Chief, Allocations Branch, Policy and Rules Division, Mass Media Bureau.

[FR Doc. 00-24072 Filed 9-19-00; 8:45 am]

BILLING CODE 6712-01-P